DEPARTMENT OF THE TREASURY

Submission for OMB Review; Comment Request

February 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 29, 2000 to be assured of consideration.

Bureau of Alcohol, Tobacco and Firearms (BATF)

OMB Number: 1512-0027.

Form Number: ATF F 4 (5320.4).

Type of Review: Extension.

Title: Application for Tax Paid Transfer and Registration of a Firearm.

Description: This form must be submitted to ATF to obtain approval for tax paid transfers of National Firearms Act (NFA) firearms. Approval of a transfer and registration of a firearm to a new owner are accomplished with the information supplied on this document.

Respondents: Individuals or households, Business of other for-profit.

Estimated Number of Respondents: 7,853.

Estimated Burden Hours Per Respondent: 4 hours.

Frequency of Response: On occasion.

Estimated Total Reporting Burden: 31,412 hours.

OMB Number: 1512-0137.

Form Number: ATF F 5150.22 and ATF F 5150.25.

Type of Review: Extension.

Title: Application for an Industrial Alcohol User Permit (F 5150.22); and Industrial Alcohol Bond (F 5150.25).

Description: ATF F 5150.22 is used to determine the eligibility of the applicant to engage in certain operations and the extent of the operations for the production and distribution of specially denatured spirits (alcohol/rum). This form identifies the location of the premises and establishes whether the premises will be in conformity with the Federal laws and regulations. ATF F 5150.25 provides notification that sufficient bond coverage has been obtained prior to the issuance of a permit.

Respondents: Business or other for-profit.

Estimated Number of Respondents: 738.

Estimated Burden Hours Per Respondent: 2 hours.

Frequency of Response: On occasion.

Estimated Total Reporting Burden: 1,476 hour.

Clearance Officer: Robert N. Hogarth, (202) 927-8930, Bureau of Alcohol, Tobacco and Firearms, Room 3200, 650 Massachusetts Avenue, NW., Washington, DC 20226.

OMB Reviewer: Alexander T. Hunt, (202) 395-7860, Office of Management and Budget, Room 10202, New Executive Office Building, Washington, DC 20503.

Lois K. Holland,
Departmental Reports Management Officer.

[FR Doc. 00-4602 Filed 2-25-00; 8:45 am]

BILLING CODE 4810-31-U